LEGAL SERVICES CORPORATION

Sunshine Act Meeting Notice

DATE AND TIME: The Legal Services Corporation's Board of Directors and its six committees will meet April 6-8, 2014. On Sunday, April 6, the first meeting will commence at 2:00 p.m., Eastern Daylight Time (EDT), with each meeting thereafter commencing promptly upon adjournment of the immediately preceding meeting. On Monday, April 7, the first meeting will commence at 9:00 a.m., EDT, with the meeting thereafter commencing promptly upon adjournment of the immediately preceding meeting, and the Operations and Regulations Committee meeting will commence at 2:30 p.m. On Tuesday, April 8, the Board meeting will commence at 9:30 a.m., EDT, and will continue until the conclusion of the Board's agenda.

LOCATION: F. William McCalpin Conference Center, Legal Services Corporation, 3333 K Street NW., Washington DC 20007.

PUBLIC OBSERVATION: Unless otherwise noted herein, the Board and all committee meetings will be open to public observation. Members of the public who are unable to attend in person but wish to listen to the public proceedings may do so by following the telephone call-in directions provided below.

CALL-IN DIRECTIONS FOR OPEN SESSIONS: • Call toll-free number: 1-866-451-4981;

• When prompted, enter the following numeric pass code: 5907707348;

• When connected to the call, please immediately “MUTE” your telephone. Members of the public are asked to keep their telephones muted to eliminate background noises. To avoid disrupting the meeting, please refrain from placing the call on hold if doing so will trigger recorded music or other sound. From time to time, the presiding Chair may solicit comments from the public.

Meeting Schedule
| Time *
Sunday, April 6, 2014
1. Governance & Performance Review Committee | 2:00 p.m.
2. Institutional Advancement Committee
3. Finance Committee
Monday, April 7, 2014
1. Audit Committee | 9:00 a.m.
2. Delivery of Legal Services Committee
3. Operations & Regulations Committee | 2:30 p.m.
Tuesday, April 8, 2014
1. Board of Directors | 9:30 a.m.

* Please note that all times in this notice are in the Eastern Daylight Time.

STATUS OF MEETING: Open, except as noted below.

Board of Directors—Open, except that, upon a vote of the Board of Directors, a portion of the meeting may be closed to the public to hear briefings by management and LSC's Inspector General, and to consider and act on the General Counsel's report on potential and pending litigation involving LSC, and act on a list of prospective funders.**

** Any portion of the closed session consisting solely of briefings does not fall within the Sunshine Act's definition of the term “meeting” and, therefore, the requirements of the Sunshine Act do not apply to such portion of the closed session. 5 U.S.C. 552(b)(a)(2) and (b). See also 45 CFR 1622.2 & 1622.3.

Institutional Advancement Committee—Open, except that, upon a vote of the Board of Directors, the meeting may be closed to the public for a briefing on contributions pledged and received, to discuss prospective funders for LSC's 40th anniversary celebration and development activities, and to consider and act on the recommendation of new prospective funders to the Board of Directors.**

Audit Committee—Open, except that a portion of the meeting may be closed to the public for a briefing by the Office of Compliance and Enforcement on active enforcement matters and follow-up to open investigation referrals from the Office of Inspector General.**

A verbatim written transcript will be made of the closed session of the Board and Institutional Advancement and Audit Committee meetings. The transcript of any portions of the closed session falling within the relevant provisions of the Government in the Sunshine Act, 5 U.S.C. 552b(c)(6) and (10), will not be available for public inspection. A copy of the General Counsel's Certification that, in his opinion, the closing is authorized by law will be available upon request.

MATTERS TO BE CONSIDERED:

April 6, 2014

Governance and Performance Review Committee

1. Approval of agenda

2. Approval of minutes of the Committee's Open Session meeting on January 24, 2014

3. Report on progress in implementing GAO Recommendation

• Presentation by Carol Bergman, Director of Government Relations & Public Affairs

4. Report on Public Welfare Foundation grant and LSC research agenda

• Presentation by Jim Sandman, President

5. Report on evaluation of LSC Comptroller, Vice President for Grants Management, and Vice President for Legal Affairs

• Presentation by Jim Sandman, President

6. Consider and act on LSC Non-Discrimination & Anti-Harassment Policy

• Presentation by Ron Flagg, General Counsel

7. Consider and act on other business

8. Public comment

9. Consider and act on motion to adjourn meeting

Institutional Advancement Committee

Open Session

1. Approval of agenda

2. Approval of minutes of the Committee's Open Session meeting of January 25, 2014

3. Discussion of proposed 40th anniversary events

4. Public comment

5. Consider and act on other business

Closed Session

1. Approval of minutes of the Committee's Closed Session meeting of January 24, 2014

2. Briefing on contributions pledged and received

3. Discussion of prospective funders for LSC's 40th anniversary celebration and development activities

4. Consider and act on recommendation of new prospective funders to the Board of Directors

5. Consider and act on adjournment of meeting

Finance Committee

1. Approval of Agenda

2. Approval of minutes of the Committee's Open Session meeting of January 23, 2014

3. Presentation of LSC's Financial Report for the first five months of FY 2014

• Presentation by David Richardson, Treasurer/Comptroller

4. Consider and act on LSC's Revised Consolidated Operating Budget for FY 2014, Resolution 2014-XXX

• Presentation by David Richardson, Treasurer/Comptroller

5. Report on the FY 2015 appropriations process

• Presentation by Carol Bergman, Director of Government Relations & Public Affairs

6. Discussion regarding proposed process and schedule for FY 2016 Budget request

• Presentation by Jim Sandman, President

• Carol Bergman, Director of Government Relations & Public Affairs

7. Public Comment

8. Consider and act on other business

9. Consider and act on motion to adjourn the meeting

April 7, 2014

Audit Committee

Open Session

1. Approval of agenda

2. Approval of minutes of the Committee's Open Session meeting of January 23, 2014

3. Quarterly review of 403(b) plan performance 2014

4. Briefing by Inspector General

• Jeff Schanz, Inspector General

5. Management update regarding risk management

• Ron Flagg, General Counsel

6. Briefing by the Office of Compliance and Enforcement about follow-up from referrals by the Office of Inspector General regarding audit reports, and annual Independent Public Accountants' audits of grantees

• Lora Rath, Director, Office of Compliance and Enforcement

• John Seeba, Acting Assistant Inspector General for Audits

7. Public comment

8. Consider and act on other business

Closed Session

9. Approval of minutes of the Committee's Closed Session meeting on January 23, 2014

10. Briefing by Office of Compliance and Enforcement on active enforcement matter(s) and follow-up to open investigation referrals from OIG

• Lora M. Rath, Director, Office of Compliance and Enforcement

11. Consider and act on adjournment of meeting

Delivery of Legal Services Committee

1. Approval of agenda

2. Approval of minutes of the Committee's Open Session meeting on January 24, 2014

3. Discussion of Committee's evaluation for 2013 and the Committee's goals for 2014

4. Panel presentation and Committee discussion of LSC's Performance Criteria, Performance Area Four, Criterion 4. Financial administration—challenges of financial planning and budgeting in the face of unpredictable and fluctuating funding

• César Torres, Executive Director, Northwest Justice Project

• Steve Pelletier, Financial Director, Northwest Justice Project

• Ed Marks, Executive Director, New Mexico Legal Aid

• Lisa Schatz-Vance, Development Director, New Mexico Legal Aid

• Calvin Harris Jr., CPA, President—Change Management, Harvin Consulting LLC

• Reginald Haley, Program Analyst, Office of Program Performance, LSC (Moderator)

5. Public Comment

6. Consider and act on other business

7. Consider and act on motion to adjourn the meeting

Operations & Regulations Committee

1. Approval of agenda

2. Approval of the minutes of the Committee's Open Session telephonic meeting on March 3, 2014

3. Report on performance management and human capital management

• Jim Sandman, President

• Traci Higgins, Director, Office of Human Resources

4. Consider and act on 45 CFR Part 1613—Restrictions on Legal Assistance With Respect to Criminal Proceedings and the Tribal Law and Order Act of 2010, Title II of Public Law 111-211

(a) Final Rule

• Ron Flagg, General Counsel

• Stefanie Davis, Assistant General Counsel

(b) Public Comment

5. Consider and act on 45 CFR Part 1626—Restrictions on Legal Assistance to Aliens

(a) Final Rule and Program Letter to replace the current appendix regarding documentation

• Ron Flagg, General Counsel

• Stefanie Davis, Assistant General Counsel

(b) Public Comment

6. Consider and act on 45 CFR Part 1614—Private Attorney Involvement

(a) Proposed Rule

• Ron Flagg, General Counsel

• Stefanie Davis, Assistant General Counsel

• Mark Freedman, Senior Assistant General Counsel

(b) Public Comment

7. Other public comment

8. Consider and act on other business

9. Consider and act on adjournment of meeting

April 8, 2014

Board of Directors

Open Session

1. Pledge of Allegiance

2. Approval of agenda

3. Approval of minutes of the Board's Open Session meeting of January 25, 2014

4. Chairman's Report

5. President's Report

6. Member's Report

7. Inspector General's Report

8. Consider and act on resolution acknowledging the service of Ronald Merryman

9. Consider and act on resolution commending the Office of the Inspector General

10. Consider and act on the report of the Delivery of Legal Services Committee

11. Consider and act on the report of the Finance Committee

12. Consider and act on the report of the Audit Committee

13. Consider and act on the report of the Operations and Regulations Committee

14. Consider and act on the report of the Governance and Performance Review Committee

15. Consider and act on the report of the Institutional Advancement Committee

16. Report on implementation of recommendations of the Pro Bono Task Force Report and Pro Bono Innovation Fund

17. Public Comment

18. Consider and act on other business

19. Consider and act on whether to authorize an executive session of the Board to address items listed below, under Closed Session

Closed Session

20. Approval of minutes of the Board's Closed Session meeting of January 25, 2014

21. Management Briefing

22. Inspector General Briefing

23. Consider and act on General Counsel's report on potential and pending litigation involving LSC

24. Consider and act on list of prospective funders

25. Consider and act on motion to adjourn meeting

CONTACT PERSON FOR FURTHER INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the Americans With Disabilities Act and Section 504 of the Rehabilitation Act of 1973. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: March 27, 2014.
Stefanie K. Davis,
Assistant General Counsel.

[FR Doc. 2014-07208 Filed 3-27-14; 11:15 am]

BILLING CODE 7050-01-P